DEPARTMENT OF DEFENSE

Office of the Secretary

Notice of Federal Advisory Committee Meeting

AGENCY: Defense Acquisition University, DoD.

ACTION: Notice.

SUMMARY: Under the provisions of the Federal Advisory Committee Act of 1972 (5 U.S.C., Appendix, as amended), the Government in the Sunshine Act of 1976 (5 U.S.C. 552b, as amended), and 41 CFR 102-3.150, the Department of Defense announces that the following Federal advisory committee meeting will take place:

1. Name of Committee: Defense Acquisition University Board of Visitors (BoV).

2. Date: Wednesday, January 26, 2011.

3. Time: 9 a.m.-2 p.m.

4. Location: Admiral Kidd Conference Center, Naval Mine and Anti-Submarine Warfare Command, Pt. Loma, San Diego, CA 92147.

5. Purpose of the Meeting: The purpose of this meeting is to report back to the BoV on continuing items of interest.

6. Agenda:

9 a.m. Welcome and approval of minutes.

9:15 a.m. DAU Support to Space Acquisition Community.

10:15 a.m. Acquisition Research.

10:45 a.m. Future Direction of DAU.

12:45 p.m. DoD Ethics Training.

13:30 p.m. Open Forum.

7. Public's Accessibility to the Meeting: Pursuant to 5 U.S.C. 552b and 41 CFR 102-3.140 through 102-3.165, and the availability of space, this meeting is open to the public. However, because of space limitations, allocation of seating will be made on a first-come, first-served basis. Persons desiring to attend the meeting should call Ms. Christen Goulding at 703-805-5134.

8. Committee's Designated Federal Officer or Point of Contact: Ms. Kelley Berta, 703-805-5412.

FOR FURTHER INFORMATION CONTACT: Christen Goulding, Protocol Director, DAU, Phone: 703-805-5134, Fax: 703-805-5940, E-mail: christen.goulding@dau.mil.

Dated: December 28, 2010.
Morgan F. Park,
Alternate OSD Federal Register Liaison Officer, Department of Defense.

[FR Doc. 2010-33096 Filed 12-30-10; 8:45 am]

BILLING CODE 5001-06-P